DEPARTMENT OF TRANSPORTATION

Federal Railroad Administration

[Docket No. FRA-2021-0006-N-9]

Proposed Agency Information Collection Activities; Comment Request

AGENCY: Federal Railroad Administration (FRA), Department of Transportation (DOT).

ACTION: Notice of information collection; request for comment.

SUMMARY: Under the Paperwork Reduction Act of 1995 (PRA), this notice announces that FRA is forwarding the Information Collection Request (ICR) abstracted below to the Office of Management and Budget (OMB) for review and comment. The ICR describes the information collection and its expected burden. On May 17, 2021, FRA published a notice providing a 60-day period for public comment on the ICR.

DATES: Interested persons are invited to submit comments on or before September 1, 2021.

ADDRESSES: Written comments and recommendations for the proposed ICR should be sent within 30 days of publication of this notice to www.reginfo.gov/public/do/PRAMain. Find this particular ICR by selecting “Currently under 30-day Review—Open for Public Comments” or by using the search function.

FOR FURTHER INFORMATION CONTACT: Ms. Kim Toone, Information Collection Clearance Officer, at email: Kim.Toone@dot.gov or telephone: (202) 493-6132.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On May 17, 2021, FRA published a 60-day notice in the Federal Register soliciting comment on the ICR for which it is now seeking OMB approval. See 86 FR 26771. FRA received no comments in response to this 60-day notice.

Before OMB decides whether to approve the proposed collection of information, it must provide 30 days for public comment. Federal law requires OMB to approve or disapprove paperwork packages between 30 and 60 days after the 30-day notice is published. 44 U.S.C. 3507(b)-(c); 5 CFR 1320.10(b); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Grants Management Requirements for Federal Railroad Administration. Grants Awards and Cooperative Agreements.

OMB Control Number: 2130-0615.

Abstract: This ICR is a revision of a currently approved collection, Grant Management Requirements for Federal Railroad Administration. Specifically, FRA is revising FRA Form 217 (Categorical Exclusion Worksheet) with this submission. All other forms associated with this collection, which OMB re-approved on January 7, 2021, remain unchanged. The forms for which FRA seeks renewal of its currently approved collection are listed below.

Form(s): All FRA forms (Fs) are located at FRA's public website; all Standard Forms (SFs) are located at Grants.gov. The FRA forms are: 30 (FRA Assurance and Certifications Regarding Lobbying; Debarment, Suspension and Other Responsibility Matters and Drug-Free Workplace Requirements), 31 (Grant Adjustment Require Form), 32 (Service Outcome Agreement Annual Reporting), 33 (Final Performance Report), 34 (Quarterly Progress Report), 35 (Application Form), 217 (Categorical Exclusion Worksheet), 229 (NIST Manufacturing Extension Partnership Supplier Scouting—FRA Item Opportunity Synopsis), 251 (Applicant Financial Capability Questionnaire), and 252 (Payment Summary Spreadsheet). The SFs are: 270 (Request for Advance or Reimbursement), 424 (Application for Federal Assistance), 424A (Budget Information for Non-Construction Programs), 424B (Assurance for Non-Construction Programs), 424C (Budget Information for Construction Programs), 424D (Assurances for Construction Programs), 425 (Federal Financial Report), and LLL (Disclosure of Lobbying Activities).

Type of Request: Revision of a currently approved collection.

Affected Public: Generally includes States and local governments and railroads.

Frequency of Submission: Varied; on occasion/monthly.

Total Estimated Annual Responses: 6,570.

Total Estimated Annual Burden: 20,184.50 hours.

Total Estimated Annual Burden Hour Dollar Cost Equivalent: $827,362.66.

Under 44 U.S.C. 3507(a) and 5 CFR 1320.5(b) and 1320.8(b)(3)(vi), FRA informs all interested parties that a respondent is not required to respond to, conduct, or sponsor a collection of information unless it displays a currently valid OMB control number.

Authority: 44 U.S.C. 3501-3520.

Brett A. Jortland,
Acting Chief Counsel.

[FR Doc. 2021-16429 Filed 7-30-21; 8:45 am]

BILLING CODE 4910-06-P